DEPARTMENT OF COMMERCE

Census Bureau

15 CFR Part 100

[Docket No. 260108-0017]

RIN 0607-AA70

Streamlining the Regulations Governing the Official Seal of the Census Bureau

AGENCY: Census Bureau, Department of Commerce.

ACTION: Final rule.

SUMMARY: By this rule, the Census Bureau (Bureau) is amending its regulations that govern the Bureau's official seal. Specifically, this rule removes unnecessary regulatory language and consolidates all of the necessary language into a single regulation. This action is intended to streamline the Bureau's regulations and promote clarity by eliminating redundancy and potential inconsistencies between the regulatory language and the underlying statutory language of 13 U.S.C. 3.

DATES: The rule is effective January 23, 2026.

FOR FURTHER INFORMATION CONTACT: Shannon Wink, Program Analyst, Policy Coordination Office, 301-763-6440, pco.policy.office@census.gov.

SUPPLEMENTARY INFORMATION:

I. Background

This action concerns the Bureau's regulations at 15 CFR part 100, which establish and govern the official seal of the Bureau.

A. Regulatory History

The official seal for the Bureau was first established in a final rule published on March 16, 1960 (25 FR 2163). That 1960 rule cited 13 U.S.C. 3 as the statutory authority and codified regulations governing the official seal at 15 CFR part 20. Subsequently, in a final rule published on June 7, 1985 (50 FR 23947), the Bureau redesignated 15 CFR part 20 as 15 CFR part 100. However, that 1985 rule was a purely administrative action, and it made no substantive changes to the regulations governing the official seal.

B. Description of the Current Regulations

The cited authority for 15 CFR part 100 is “R.S. 161, as amended, sec. 3, 68 Stat. 1012, as amended (5 U.S.C. 301, 13 U.S.C. 3).” Part 100 currently consists of three sections: §§ 100.1, 100.2, and 100.3.

Section 100.1 readdresses the authority for 15 CFR part 100 and states that “[p]ursuant to section 3 of Title 13, United States Code, the Bureau of the Census official seal and design thereof, which accompanies and is made a part of this document, is hereby approved.” 15 CFR 100.1.

Section 100.2 sets forth a detailed description of the official seal. See 15 CFR 100.2. Specifically, it states as follows:

Seal: On a shield an open book beneath which is a lamp of knowledge emitting rays above in base two crossed quills. Around the whole a wreath of single leaves, surrounded by an outer band bearing between two stars the words “U.S. Department of Commerce” in the upper portion and “Bureau of the Census” in the lower portion, the lettering concentric with an inner beaded rim and an outer dentilated rim.

Id.

Section 100.3 addresses custody and affixation of the seal. See 15 CFR 100.3. Specifically, it states that “[t]he seal shall remain in the custody of the Director, Bureau of the Census or such officer or employee of the Bureau as he designates and shall be affixed to all certificates and attestations that may be required from the Bureau.” Id.

II. Discussion

The Bureau has determined that it is appropriate to amend 15 CFR part 100 by removing §§ 100.1 and 100.3, and by making some minor additions to § 100.2, for the following reasons.

Removing § 100.1. As previewed, § 100.1 readdresses the underlying authority for 15 CFR part 100 and states that, pursuant to 13 U.S.C. 3, the official seal included in part 100 is “hereby approved.” See 15 CFR 100.1. Notably, 13 U.S.C. 3 is already identified in the authority citation for 15 CFR part 100. Thus, insofar as § 100.1 reestablishes 13 U.S.C. 3 as the underlying statutory authority for 15 CFR part 100, it is unnecessary and redundant. And insofar as § 100.1 “approve[s]” the official seal, such language can be consolidated into § 100.2, as described below. Doing so, and eliminating § 100.1 as a standalone provision, will reduce clutter and streamline 15 CFR part 100, thereby promoting clarity and efficiency.

Revising § 100.2. Section 100.2 contains a detailed description of the official seal. See 15 CFR 100.2. As particularly relevant, the description is currently introduced by a single word—“Seal:”. To account for the removal of § 100.1 and also ensure clarity, the Bureau is amending the introduction of § 100.2 to instead identify the seal as the “approved, official seal of the Census Bureau.” This consolidation and clarification will promote simplicity and efficiency.

Separately, the Bureau is also making some minor punctuation additions to the detailed description set forth in § 100.2 to promote readability.

Removing § 100.3. Section 100.3 effectively establishes two rules: (1) that the official seal shall remain in the custody of the Director of the Bureau (or his designee); and (2) that the official seal shall be affixed to “all certificates and attestations that may be required from the Bureau.” 15 CFR 100.3. However, the language of § 100.3 no longer tracks the controlling statute with respect to either of these rules. As for custody, the current version of 13 U.S.C. 3 provides that “[t]he seal shall remain in the custody of the Secretary [of Commerce] or such officer or employee of the Bureau as he designates.” (Emphasis added.) And, as for affixation, the current version of 13 U.S.C. 3, provides that the seal “shall be affixed to all documents authenticated by the [Census] Bureau.” (Emphasis added.) Upon review, the Bureau has determined that 13 U.S.C. 3 sufficiently speaks for itself on these issues of custody and affixation. Removing § 100.3 will eliminate the potential inconsistencies between 15 CFR part 100 and 13 U.S.C. 3, and will properly encourage readers to directly review and consult the underlying statutory text.

In sum, the Census Bureau is amending 15 CFR part 100 to consist solely of a description of the “approved, official seal of the Census Bureau.” The Bureau has determined that such a description constitutes the core component of 15 CFR part 100, and that the rest of 15 CFR part 100 is unnecessary and appropriate for removal. The Bureau is amending 15 CFR part 100 accordingly to promote regulatory simplicity and to reduce clutter and the potential for inconsistencies or confusion.

III. Regulatory Certifications

A. Administrative Procedure Act

Pursuant to 5 U.S.C. 553(b)(B), the Department of Commerce (Department) finds good cause to waive the prior notice and opportunity for public participation requirements of the Administrative Procedure Act for this final rule. The Department considers this rule to be uncontroversial, and has determined that prior notice and opportunity for public participation is unnecessary, because this rule only consolidates the core language of 15 CFR part 100 into one section, adds some missing punctuation marks, and eliminates unnecessary language that poses some risk of inconsistency and confusion; the appropriateness of these minor changes would not be affected by public comment. For the same reasons, the Department has determined that delaying the effectiveness of these amendments would be contrary to the public interest. The language being removed by this rule unnecessarily poses some risk of inconsistency, confusion, and inefficiency; its removal will immediately benefit the public at little to no cost. The Department therefore finds good cause to waive the public notice and comment period under 553(b)(B) and, for the same reasons, to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 100

Administrative practice and procedure, Archives and records, Census data, Organization and functions (Government agencies), Seals and insignia.

Dated: January 20, 2026.
George Cook,
Chief of Staff to the Under Secretary for Economic Affairs performing the non-exclusive functions and duties of the Director of the Census Bureau.

For the reasons set forth in the preamble, the Census Bureau amends 15 CFR part 100 as follows:

PART 100—SEAL

1. The authority citation for part 100 continues to read as follows:

Authority: R.S. 161, as amended, sec. 3, 68 Stat. 1012, as amended (5 U.S.C. 301, 13 U.S.C. 3).

§ 100.1 [Removed and Reserved]

2. Remove and reserve § 100.1.

3. Revise § 100.2 to read as follows:

§ 100.2 Description.

The approved, official seal of the Census Bureau is as follows: On a shield, an open book beneath which is a lamp of knowledge emitting rays above in base two crossed quills. Around the whole a wreath of single leaves, surrounded by an outer band bearing between two stars the words “U.S. Department of Commerce” in the upper portion and “Bureau of the Census” in the lower portion, the lettering concentric with an inner beaded rim and an outer dentilated rim.

§ 100.3 [Removed and Reserved]

4. Remove and reserve § 100.3.

[FR Doc. 2026-01308 Filed 1-22-26; 8:45 am]

BILLING CODE 3510-07-P